DEPARTMENT OF THE INTERIOR

Bureau of Ocean Energy Management

Docket No. BOEM-2017-0078]

Gulf of Mexico, Outer Continental Shelf (OCS), Oil and Gas Lease Sale 250; MMAA104000

AGENCY: Bureau of Ocean Energy Management, Interior.

ACTION: Notice of Availability of a Record of Decision.

SUMMARY: The Bureau of Ocean Energy Management (BOEM) is announcing the availability of a Record of Decision for proposed Gulf of Mexico (GOM) region-wide oil and gas Lease Sale 250. This Record of Decision identifies BOEM's selected alternative for proposed Lease Sale 250, which is analyzed in the Gulf of Mexico Outer Continental Shelf Lease Sale: Final Supplemental Environmental Impact Statement 2018 (2018 GOM Supplemental EIS).

ADDRESSES: The Record of Decision is available on BOEM's website at http://www.boem.gov/nepaprocess/.

FOR FURTHER INFORMATION CONTACT: For more information on the Record of Decision, you may contact Mr. Greg Kozlowski, Deputy Regional Supervisor, Office of Environment, by telephone at 504-736-2512 or by email at greg.kozlowski@boem.gov.

SUPPLEMENTARY INFORMATION: In the 2018 GOM Supplemental EIS, BOEM evaluated five alternatives in regards to proposed Lease Sale 250. These alternatives are summarized below:

Alternative A—Region-wide OCS Lease Sale: This is BOEM's preferred alternative. This alternative would allow for a proposed GOM region-wide lease sale encompassing all three planning areas: The Western Planning Area (WPA); the Central Planning Area (CPA); and a small portion of the Eastern Planning Area (EPA) not under Congressional moratorium. Under this alternative, BOEM would offer for lease all available unleased blocks within the proposed region-wide lease sale area for oil and gas operations with the following exceptions: Whole and portions of blocks deferred by the Gulf of Mexico Energy Security Act of 2006; blocks that are adjacent to or beyond the United States' Exclusive Economic Zone in the area known as the northern portion of the Eastern Gap; whole and partial blocks within the current boundary of the Flower Garden Banks National Marine Sanctuary; and blocks whose lease status is currently under appeal. The unavailable blocks are listed in Section I of the Final Notice of Sale for proposed Lease Sale 250. The proposed region-wide lease sale area encompasses about 91.93 million acres (ac). As of February 2018, approximately 77.3 million ac of the proposed region-wide lease sale area are currently available for lease. As described in the 2018 Final GOM Supplemental EIS, the estimated amounts of resources projected to be leased, discovered, developed, and produced as a result of the proposed region-wide lease sale are between 0.211and 1.118 billion barrels of oil (BBO) and 0.547 and 4.424 trillion cubic feet (Tcf) of natural gas.

Alternative B—Region-wide OCS Lease Sale Excluding Available Unleased Blocks in the WPA Portion of the Proposed Lease Sale Area: This alternative would offer for lease all available unleased blocks within the CPA and EPA portions of the proposed lease sale area for oil and gas operations, with the following exceptions: Whole and portions of blocks deferred by the Gulf of Mexico Energy Security Act of 2006; and blocks that are adjacent to or beyond the United States' Exclusive Economic Zone in the area known as the northern portion of the Eastern Gap. The proposed CPA/EPA lease sale area encompasses about 63.35 million ac. As of February 2018, approximately 51.2 million ac of the proposed CPA/EPA lease sale area are currently available for lease. The estimated amounts of resources projected to be leased, discovered, developed, and produced as a result of the proposed lease sale under Alternative B are 0.185-0.970 BBO and 0.441-3.672 Tcf of gas.

Alternative C—Region-wide OCS Lease Sale Excluding Available Unleased Blocks in the CPA and EPA Portions of the Proposed Lease Sale Area: This alternative would offer for lease all available unleased blocks within the WPA portion of the proposed lease sale area for oil and gas operations, with the following exception: Whole and partial blocks within the current boundary of the Flower Garden Banks National Marine Sanctuary. The proposed WPA lease sale area encompasses about 28.58 million ac. As of February 2018, approximately 26.2 million ac of the proposed WPA lease sale area are currently available for lease. The estimated amounts of resources projected to be leased, discovered, developed, and produced as a result of the proposed lease sale under Alternative C are 0.026-0.148 BBO and 0.106-0.752 Tcf of gas.

Alternative D—Alternative A, B, or C, with the Option to Exclude Available Unleased Blocks Subject to the Topographic Features, Live Bottom (Pinnacle Trend), and/or Blocks South of Baldwin County, Alabama, Stipulations: This alternative could be combined with any of the Action alternatives above (i.e., Alternatives A, B, or C) and would allow the flexibility to offer leases under any alternative with additional exclusions. Under Alternative D, the decision-maker could exclude from leasing any available unleased blocks subject to any one and/or a combination of the following stipulations: Topographic Features Stipulation; Live Bottom Stipulation; and Blocks South of Baldwin County, Alabama, Stipulation (not applicable to Alternative C). This alternative considered blocks subject to these stipulations because these areas have been emphasized in scoping, can be geographically defined, and adequate information exists regarding their ecological importance and sensitivity to OCS oil- and gas-related activities.

A total of 207 blocks within the CPA and 160 blocks in the WPA are affected by the Topographic Features Stipulation. There are currently no identified topographic features protected under this stipulation in the EPA. The Live Bottom Stipulation covers the pinnacle trend area of the CPA, affecting a total of 74 blocks. Under Alternative D, the number of blocks that would become unavailable for lease represents only a small percentage of the total number of blocks to be offered under Alternative A, B, or C (<4%, even if blocks subject to all three stipulations were excluded). Therefore, Alternative D could reduce offshore infrastructure and activities, but Alternative D also shifts the location of offshore infrastructure and activities farther from these sensitive zones and would not lead to a reduction in overall offshore infrastructure and activities.

Alternative E—No Action: This alternative is not holding proposed region-wide Lease Sale 250 and is identified as the environmentally preferred alternative.

Lease Stipulations—The 2018 GOM Supplemental EIS describes all lease stipulations, which are included in the Final Notice of Sale Package. In the Record of Decision for the 2017-2022 Five-Year Program, the Secretary of the Interior required the protection of biologically sensitive underwater features in all Gulf of Mexico oil and gas lease sales as programmatic mitigation; therefore, the application of the Topographic Features Stipulation and Live Bottom Stipulation are being adopted and applied for applicable designated lease blocks in Lease Sale 250.

The additional eight lease stipulations for proposed region-wide Lease Sale 250 are the Military Areas Stipulation; the Evacuation Stipulation; the Coordination Stipulation; the Blocks South of Baldwin County, Alabama, Stipulation; the Protected Species Stipulation; the United Nations Convention on the Law of the Sea Royalty Payment Stipulation; the Below Seabed Restrictions due to Rights-of-Use and Easement for Floating Production Facilities Stipulation; and the Stipulation on the Agreement between the United States of America and the United Mexican States Concerning Transboundary Hydrocarbon Reservoirs in the Gulf of Mexico. These eight stipulations will be added as lease terms where applicable and will be enforceable as part of the lease. Appendix B of the Gulf of Mexico OCS Oil and Gas Lease Sales: 2017-2022; Gulf of Mexico Lease Sales 249, 250, 251, 252, 253, 254, 256, 257, 259, and 261; Final Multisale Environmental Impact Statement (2017-2022 GOM Multisale EIS) provides a list and description of standard post-lease conditions of approval that may be required by BOEM or the Bureau of Safety and Environmental Enforcement as a result of plan and permit review processes for the Gulf of Mexico OCS Region.

After careful consideration, BOEM has selected the preferred alternative (Alternative A) in the 2018 GOM Supplemental EIS for proposed Lease Sale 250. BOEM's selection of the preferred alternative meets the purpose and need for the proposed action, as identified in the 2018 GOM Supplemental EIS, and provides for orderly resource development with protection of the human, marine, and coastal environments while also ensuring that the public receives an equitable return for these resources and that free-market competition is maintained.

Authority: This Notice of Availability of a Record of Decision is published pursuant to the regulations (40 CFR part 1505) implementing the provisions of the National Environmental Policy Act of 1969, as amended (42 U.S.C. 4321 et seq.).

Dated: February 13, 2018.
Walter D. Cruickshank,
Acting Director, Bureau of Ocean Energy Management.

[FR Doc. 2018-03280 Filed 2-15-18; 8:45 am]

BILLING CODE 4310-MR-P